FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 16, 2015.

A. Federal Reserve Bank of Chicago (Colette A. Fried, Assistant Vice President) 230 South LaSalle Street, Chicago, Illinois 60690-1414:

1. Ronald J. and Elizabeth A. Schowalter Living Trust, with Ronald J. Schowalter and Elizabeth A. Schowalter as co-trustees, all of Port Washington, Wisconsin; and the Ronald J. and Elizabeth A. Schowalter Living Trust, together as a group acting in concert with Mark D. Schowalter, Port Washington, Wisconsin, individually; the Mark D. Schowalter Family Endowment Trust and Mark D. Schowalter as trustee; the Schowalter Trusts f/b/o Steven R. Schowalter, Mark D. Schowalter, and Sally R. Savatski, with Steven R. Schowalter, Mark D. Schowalter, and Sally A. Savatski as co-trustees; Steven R. Schowalter, Port Washington, Wisconsin, individually; the Steven R. Schowalter Family Endowment Trust and Steven R. Schowalter as trustee; Sally A. Savatski, Port Washington, Wisconsin, individually; the Sally A. Savatski Family Endowment Trust and Sally A. Savatski as trustee; Wendy P. Schowalter, Port Washington, Wisconsin, individually; Catherine J. Schowalter, Port Washington, Wisconsin, individually; Robert A. Savatski, Port Washington, Wisconsin, individually; James S. Schowalter, Port Washington, Wisconsin, individually; Jennifer M. Schowalter, Port Washington, Wisconsin, individually; Mark D. Schowalter, Catherine J. Schowalter, Sally A. Savatski, Robert A. Savatski, James S. Schowalter, and Jennifer M. Schowalter, each as custodians under UGMA for certain Schowalter grandchildren, all of Port Washington, Wisconsin; Tracy N. Schowalter-Braun and Justin P. Braun, individually and as custodians under UGMA for certain Schowalter great-grandchildren, all of Cedarburg, Wisconsin; and the Schowalter Grandchildren's Trust, with Legacy Private Trust Company, as trustee, all of Neenah, Wisconsin; to retain voting shares of Port Bancshares, Inc., and thereby indirectly retain voting shares of Port Washington State Bank, both in Port Washington, Wisconsin.

Board of Governors of the Federal Reserve System, May 27, 2015.
Michael J. Lewandowski,
Associate Secretary of the Board.

[FR Doc. 2015-13091 Filed 5-29-15; 8:45 am]

BILLING CODE 6210-01-P